FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Application for Consent to Exercise Trust Powers.

Form Number: 6200/09.

OMB Number: 3064-0025.

Annual Burden:

Estimated annual number of respondents: 43

Estimated time per response: 35 applications—8 hours; 8 applications—24 hours

Total annual burden hours: 472 hours

Expiration Date of OMB Clearance: November 30, 2000.

SUPPLEMENTARY INFORMATION: Insured state nonmember banks submit applications to FDIC for consent to exercise trust powers. Applications are evaluated by FDIC to verify qualifications of bank management to administer a trust department and to ensure that bank's financial condition will not be jeopardized as a result of trust operations.

2. Type of Review: Renewal of a currently approved collection.

Title: Application for a Bank To Establish a Branch or Move Its Main Office or Branch.

OMB Number: 3064-0070.

Annual Burden:

Estimated annual number of respondents: 1,650

Estimated time per response: 5 hours

Total annual burden hours: 8,250 hours

Expiration Date of OMB Clearance: November 30, 2000.

SUPPLEMENTARY INFORMATION: Section 18(d) of the Federal Deposit Insurance Act (12 U.S.C. 1828(d)) provides that no state nonmember insured bank shall establish and operate any new domestic branch or move its main office or branch from one location to another without the prior written consent of the FDIC.

3. Type of Review: Renewal of a currently approved collection.

Title: Application for Consent To Reduce or Retire Capital.

OMB Number: 3064-0079.

Annual Burden:

Estimated annual number of respondents: 100

Estimated time per response: 1 hour

Total annual burden hours: 100 hours

Expiration Date of OMB Clearance: November 30, 2000.

SUPPLEMENTARY INFORMATION: This collection requires insured state nonmember banks that propose to change their capital structure to submit an application containing information about the proposed change in order to obtain FDIC's consent to reduce or retire capital. The FDIC evaluates the information contained in the letter application in relation to statutory considerations and makes a decision to grant or to withhold consent.

4. Type of Review: Renewal of a currently approved collection.

Title: Activities and Investments of Savings Associations.

OMB Number: 3064-0104.

Annual Burden:

Estimated annual number of respondents: 20.

Estimated time per response: 5 hours.

Total annual burden hours: 100 hours.

Expiration of OMB Clearance: November 30, 2000.

SUPPLEMENTARY INFORMATION: The collection of information identifies the information that state savings associations and/or their subsidiaries must submit to obtain the FDIC's approval or objection to engage in certain activities.

OMB Reviewer: Alexander T. Hunt, (202) 395-7860, Office of Management and Budget, Office of Information and Regulatory Affairs, Washington, DC 20503.

FDIC Contact: Tamara R. Manly, (202) 898-7453, Office of the Executive Secretary, Room F-4058, Federal Deposit Insurance Corporation, 550 17th Street NW., Washington, DC 20429.

Comments: Comments on these collections of information are welcome and should be submitted on or before November 24, 2000 to both the OMB reviewer and the FDIC contact listed above.

ADDRESSES: Information about this submission, including copies of the proposed collections of information, may be obtained by calling or writing the FDIC contact listed above.

Dated: October 18, 2000.
Federal Deposit Insurance Corporation.
Robert E. Feldman,
Executive Secretary.

[FR Doc. 00-27255 Filed 10-23-00; 8:45 am]

BILLING CODE 6714-01-P